DEPARTMENT OF AGRICULTURE

[Docket No. 0508-New]

Notice of Request for Approval of a New Information Collection

AGENCY: Office of the Assistant Secretary for Civil Rights, Department of Agriculture.

ACTION: Notice and request for comments.

SUMMARY: In accordance with the Paperwork Reduction Act of 1995, this notice announces the intention of the Office of the Assistant Secretary for Civil Rights to request approval for a new information collection for the Equal Employment Opportunity Formal Complaint Form.

DATES: Comments on this notice must be received by November 13, 2017 to be assured of consideration.

ADDRESSES: Office of the Assistant Secretary for Civil Rights/Office of Compliance, Policy, and Training invites interested persons to submit comments on this notice. Comments may be submitted by one of the following methods:

• Federal eRulemaking Portal: This Web site provides the ability to type short comments directly into the comment field on this Web page or attach a file for lengthier comments. Go to http://www.regulations.gov. Follow the on-line instructions at that site for submitting comments.

• Mail, including CD-ROMs, etc.: Send to Docket Clerk, 1400 Independence Avenue SW., Washington, DC 20250-3700, Mailstop 9401.

• Hand- or courier-delivered submittals: Deliver to 1400 Independence Avenue SW., Washington, DC 20250-3700, Mailstop 9401.

Instructions: All items submitted by mail or electronic mail must include the Office of the Assistant Secretary for Civil Rights/Office of Compliance, Policy, and Training, Docket No. 0508-New, Comments received in response to this docket will be made available for public inspection and posted without change, including any personal information, to http://www.regulations.gov.

Docket: For access to background documents or comments received, go to the Office of the Assistant Secretary for Civil Rights/Office of Compliance, Policy, and Training, Docket Room at 1400 Independence Avenue SW., Washington, DC 20250-3700, Mailstop 9401, between 8:00 a.m. and 4:30 p.m., Monday through Friday.

FOR FURTHER INFORMATION CONTACT: Contact Anna G. Stroman, Deputy Director, Office of Compliance, Policy, and Training, Office of the Assistant Secretary for Civil Rights, U.S. Department of Agriculture, 1400 Independence Avenue SW., Washington, DC 20250, (202) 205-5953 or Anna.Stroman@ascr.usda.gov.

SUPPLEMENTARY INFORMATION:

Title: Equal Employment Opportunity Formal Complaint Form.

OMB Number: 0508—New.

Expiration Date of Approval: Three years from approval date.

Type of Request: New information collection.

Abstract: This data collection is necessary to implement 29 CFR 1614.104(a). 29 CFR 1614 requires each agency subject to this part to adopt procedures for processing individual and class complaints of discrimination. Each complaint must contain a signed statement from the person claiming to be aggrieved or that person's attorney. This statement must be sufficiently precise to identify the aggrieved individual and the agency and to describe generally the action(s) or practice(s) that form the basis of the complaint. The complaint must also contain a telephone number and address where the complainant or the representative can be contacted. The collection of this information is the avenue by which the individual or his/her representative may file such a complaint. The requested information is necessary in order for the Office of the Assistant Secretary for Civil Rights to address the alleged discriminatory action.

Currently, USDA receives formal complaints from approximately 19 sub-agencies utilizing several different formats. The information collected on this form will make processing, and possible resolution of the complaint, more efficient and effective to meet statutory timeframes.

Estimate of Burden: Public reporting burden for this collection of information is estimated to average 20 minutes per response for applicants and contractors. Total public reporting burden for this collection of information is estimated to average 20 minutes per response.

Type of Respondents: Current and past Federal employees, Applicants for employment with USDA, and Contractors.

Estimated Number of Respondents: 46.

Estimated Number of Responses: 46.

Estimated Number of Responses per Respondent: 1.

Estimated Total Annual Burden on Respondents: 15.32 per year.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Anna G. Stroman, Deputy Director, Office of Compliance, Policy, and Training, Office of the Assistant Secretary for Civil Rights. All comments received will be available for public inspection during regular business hours at the same address.

All responses to this notice will be summarized and included in the request for OMB approval. All comments will become a matter of public record.

Winona Lake Scott,
Acting Deputy Assistant Secretary for Civil Rights, Office of the Assistant Secretary for Civil Rights.

[FR Doc. 2017-19180 Filed 9-8-17; 8:45 am]

BILLING CODE P